DEPARTMENT OF JUSTICE

Federal Bureau of Investigation

[OMB Number 1110-NEW]

Agency Information Collection Activities: Proposed Collection, Comments Requested

ACTION: 60-day Notice of Information Collection for Review: Final Disposition Report (R-84).

The Department of Justice, Federal Bureau of Investigation (FBI), Criminal Justice Information Services (CJIS) Division will be submitting the following information collection renewal to the Office of Management and Budget (OMB) for review in accordance with established review procedures of the Paperwork Reduction Act of 1995. The information collection is published to obtain comments from the public and affected agencies. Comments are encouraged and will be accepted for “sixty days” until April 11, 2011. This process is conducted in accordance with 5 CFR 1320.10.

All comments, suggestions, or questions regarding additional information, to include obtaining a copy of the proposed information collection instrument with instructions, should be directed to Rachel K. Hurst, Management Program Analyst, Federal Bureau of Investigation, Criminal Justice Information Services Division (CJIS), Biometric Services Section, Support Services Unit, Module E-1, 1000 Custer Hollow Road, Clarksburg, West Virginia 26306; or by facsimile to (304) 625-5392.

To ensure that comments on the information collection are received, OMB recommends that written comments be faxed to the Office of Information and Regulatory Affairs, OMB, Attn: DOJ Desk Officer, Fax: 202 395-7285, or e-mailed to oira_submission@omb.eop.gov. All comments should be identified with the OMB control number [1121-0234]. Also include the DOJ docket number found in brackets in the heading of this document.

Written comments and suggestions from the public and affected agencies concerning the proposed collection of information are encouraged. Comments should address one or more of the following four points:

(1) Evaluate whether the proposed collection of information is necessary for the proper performance of the functions of the agency, including whether the information will have a practical utility;

(2) Evaluate the accuracy of the agency's estimate of the burden of the propose collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: Approval of existing collection in use without an OMB control number.

(2) The title of the form/collection: Final Disposition Report.

(3) The agency form number, if any, and the applicable component of the department sponsoring the collection: R-84; Criminal Justice Information Services Division, Federal Bureau of Investigation, Department of Justice.

(4) Affected public who will be asked or required to respond, as well as a brief abstract: Primary: City, county, State, Federal and Tribal law enforcement agencies. This collection is needed to report completion of an arrest record. Acceptable data is stored as part of the Integrated Automated Fingerprint Identification System (IAFIS) of the FBI.

(5) An estimate of the total number of respondents and the amount of time estimated for an average respondent to respond: There are approximately 71,757 agencies as respondents at five minutes per Final Disposition Report completed.

(6) An estimate of the total public burden (in hours) associated with this collection: There are approximately 54,167 annual burden hours associated with this collection.

If additional information is required contact: Lynn Murray, Department Clearance Officer, Justice Management Division, United States Department of Justice, Two Constitution Square, 145 N Street, NE., Suite 2E-502, Washington, DC 20530.

Dated: February 2, 2011.
Lynn Murray,
Department Clearance Officer, PRA, United States Department of Justice.

[FR Doc. 2011-2672 Filed 2-7-11; 8:45 am]

BILLING CODE 4410-02-P